Proclamation 7745 of December 17, 2003

Wright Brothers Day, 2003

By the President of the United States of America

A Proclamation

A spirit of exploration and discovery has been a part of the American character since our founding days. Orville and Wilbur Wright exemplified this spirit when they made the dream of human flight a reality on December 17, 1903. On Wright Brothers Day, we honor the vision of these bicycle mechanics from Dayton, Ohio, and celebrate the centennial of manned, powered flight.

One hundred years ago, the Wright brothers changed our world with their 12-second, 120-foot flight in North Carolina. Their achievement inspired other aviation pioneers and marked the beginning of a new era of freedom. Since that first flight, aviation and aerospace technology has advanced at a remarkable pace, allowing us to fly across oceans, break the sound barrier, orbit the Earth, land on the moon, and study our universe in a way our ancestors could not have imagined. Each new generation of engineers and other inventors, following in the Wright Brothers' footsteps, continues to move the technology of flight further.

Today, air transportation touches the lives of people throughout the United States, and helps unite the American people. Air transportation brings families and friends together, delivers aid to those in need, and facilitates industry and commerce.

As we look to the future, we remember the extraordinary accomplishments of the Wright Brothers. Their determination and innovation continue to inspire us as we embark on the second century of flight.

The Congress, by a joint resolution approved December 17, 1963 (77 Stat. 402; 36 U.S.C. 143) as amended, has designated December 17 of each year as “Wright Brothers Day” and has authorized and requested the President to issue annually a proclamation inviting the people of the United States to observe that day with appropriate ceremonies and activities.

NOW, THEREFORE, I, GEORGE W. BUSH, President of the United States of America, do hereby proclaim December 17, 2003, as Wright Brothers Day.

IN WITNESS WHEREOF, I have hereunto set my hand this seventeenth day of December, in the year of our Lord two thousand three, and of the Independence of the United States of America the two hundred and twenty-eighth.

B

[FR Doc. 03-31593

Filed 12-22-03; 8:45 am]

Billing code 3195-01-P